DEPARTMENT OF DEFENSE

Department of the Army; Corps of Engineers

Chief of Engineers Environmental Advisory Board

AGENCY: Department of the Army, U.S. Army Corps of Engineers DoD.

ACTION: Notice of open meeting.

SUMMARY: In accordance with Section 10(a)(2) of the Federal Advisory Committee Act (Pub. L. 92-463), announcement is made of the following committee meeting:

Name of Committee: Chief of Engineers Environmental Advisory Board (EAB).

Topic: The EAB will discuss national considerations related to ecosystem restoration through integrated water resources management with emphasis on long-term recovery in the Gulf of Mexico, sea level rise in south Florida, and progress and status of South Florida ecosystem restoration.

Date of Meeting: October 29, 2010.

Place: The Westin Colonnade, 180 Aragon Avenue, Coral Gables, Florida 33134.

Time: 9 a.m. to 12 p.m.

Thirty minutes will be set aside for public comment. Members of the public who wish to speak are asked to register prior to the start of the meeting. Registration will begin at 8:30 a.m. Statements are limited to 3 minutes.

FOR FURTHER INFORMATION CONTACT: Ms. Rennie Sherman, Executive Secretary, rennie.h.sherman@usace.army.mil, 202-761-7771.

SUPPLEMENTARY INFORMATION: The EAB advises the Chief of Engineers by providing expert and independent advice on environmental issues facing the Corps of Engineers. The public meeting will include discussion between the EAB and the Chief of Engineers and may include presentations related to the topics of discussion. The meeting is open to the public, and public comment is tentatively scheduled for 30 minutes beginning at 11:15.

Brenda S. Bowen,
Army Federal Register Liaison Officer.

[FR Doc. 2010-25988 Filed 10-14-10; 8:45 am]

BILLING CODE 3720-58-P